DEPARTMENT OF STATE

[Public Notice 6333]

Culturally Significant Objects Imported for Exhibition Determinations: “Paintings From the Reign of Victoria: The Royal Holloway Collection, London”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Paintings from the Reign of Victoria: The Royal Holloway Collection, London,” imported from abroad for temporary exhibition within the United States, are of cultural significance. The objects are imported pursuant to loan agreements with the foreign owners or custodians. I also determine that the exhibition or display of the exhibit objects at the Philbrook Museum of Art, Tulsa, Oklahoma, from on or about October 12, 2008, until on or about January 4, 2009; at the Delaware Museum of Art, Wilmington, Delaware, from on or about January 31, 2009, until on or about April 12, 2009; at the Yale Center for British Art, New Haven, Connecticut, from on or about June 11, 2009, until on or about July 26, 2009; at Brigham Young University Museum of Art, Provo, Utah, from on or about August 15, 2009, until on or October 25, 2009; at the Huntsville Museum of Art, Huntsville, Alabama, from on or about November 21, 2009, until on or about January 31, 2010; at the Society of the Four Arts, Palm Beach, Florida, from on or about March 12, 2010, until on or about April 18, 2010; and at the Iris and Gerald B. Cantor Center for the Visual Arts, Stanford University, Stanford, California, from on or about May 15, 2010, until on or about July 12, 2010; and at possible additional exhibitions or venues yet to be determined, is in the national interest. Public Notice of these Determinations is ordered to be published in the Federal Register.

FOR FURTHER INFORMATION CONTACT: For further information, including a list of the exhibit objects, contact Wolodymyr Sulzynsky, Attorney-Adviser, Office of the Legal Adviser, U.S. Department of State (telephone: 202/453-8050). The address is U.S. Department of State, SA-44, 301 4th Street, SW., Room 700, Washington, DC 20547-0001.

Dated: August 19, 2008.
C. Miller Crouch,
Principal Deputy Assistant Secretary for Educational and Cultural Affairs, Department of State.

[FR Doc. E8-19770 Filed 8-25-08; 8:45 am]

BILLING CODE 4710-05-P